DEPARTMENT OF HOMELAND SECURITY

Coast Guard

33 CFR Part 100

[Docket No. CGD05-07-075]

Special Local Regulations for Marine Events; Wrightsville Channel, Wrightsville Beach, NC

AGENCY: Coast Guard, DHS.

ACTION: Notice of enforcement of regulation.

SUMMARY: The Coast Guard will enforce special local regulations during the “Wilmington YMCA Triathlon” swim to be held September 29, 2007, on the waters of Wrightsville Channel, Wrightsville Beach, North Carolina. This action is necessary to provide for the safety of life on navigable waters during the event. The effect will be to restrict general navigation in the regulated area for the safety of participants and vessels transiting the event area.

DATES: The regulations in 33 CFR 100.513 will be enforced from 6:30 a.m. through 9 a.m. on September 29, 2007.

FOR FURTHER INFORMATION CONTACT: Mr. Chris Humphrey, Coast Guard Sector North Carolina, Prevention Department, at (252) 247-4525 or e-mail at Christopher.D.Humphrey@uscg.mil.

SUPPLEMENTARY INFORMATION: The Coast Guard will enforce the special local regulations for the 29th Annual YMCA Triathlon held on the waters of the Wrightsville Channel in 33 CFR 100.513 from 6:30 a.m. until 9 a.m. on September 29, 2007.

Annually, the YMCA in Wilmington, North Carolina sponsors this event. The marine event consists of approximately 1200 swimmers competing along a course within the regulated area. Due to the need for vessel control during the event, vessel traffic will be temporarily restricted to provide for the safety of participants, spectators and support vessels. In order to ensure the safety of the event participants and transiting vessels, 33 CFR 100.513 will be in effect for the duration of the event. Under provisions of 33 CFR 100.513, a vessel may not enter the regulated area unless it receives permission from the Coast Guard Patrol Commander. The Coast Guard may be assisted by other State or local law enforcement agencies in enforcing this regulation.

This notice is issued under authority of 33 CFR 100.513 and 5 U.S.C. 552(a). In addition to this notice, the maritime community will be provided extensive advance notification via the Local Notice to Mariners, marine information broadcasts, local radio stations and area newspapers, so mariners can adjust their plans accordingly.

Dated: August 6, 2007.
Fred M. Rosa, Jr.,
Rear Admiral, U.S. Coast Guard, Commander, Fifth Coast Guard District.

[FR Doc. E7-15956 Filed 8-14-07; 8:45 am]

BILLING CODE 4910-15-P